NATIONAL SCIENCE FOUNDATION

Advisory Committee for Geosciences; Notice of Meeting

In accordance with the Federal Advisory Committee Act (Pub. L. 92-463, as amended), the National Science Foundation (NSF) announces the following meeting:

Name and Committee Code: Advisory Committee for Geosciences (1755).

Date and Time: October 14, 2020; 11:00 a.m.—5:00 p.m. EDT.

October 15, 2020; 11:00 a.m.—5:00 p.m. EDT.

Place: NSF, 2415 Eisenhower Avenue, Alexandria, VA 22314 (Virtual). Connection information will be made available on the AC GEO website at least two weeks prior to the meeting: (https://www.nsf.gov/geo/advisory.jsp).

Type of Meeting: Open.

Contact Person: Melissa Lane, National Science Foundation, Room C 8000, 2415 Eisenhower Avenue, Alexandria, Virginia 22314; Phone 703-292-8500.

Minutes: May be obtained from the contact person listed above.

Purpose of Meeting: To provide advice, recommendations, and oversight on support for geoscience research and education including atmospheric, geo-space, earth, ocean and polar sciences.

Agenda

October 14, 2020

• Directorate and NSF activities and plans

• Discussion of the Impact of COVID-19 on GEO operations

• Discussion of Draft Report on 21st Century Geosciences

• Update on NASEM Earth System Science Study

October 15, 2020

• Report outs from Division Meetings and AC OPP Fall Meeting

• Report on the AGS Committee of Visitors Meeting

• Meeting with the NSF Director and Chief Operating Officer

• Action Items/Planning for Spring 2021 Meeting

Dated: September 15, 2020.
Crystal Robinson,
Committee Management Officer.

[FR Doc. 2020-20663 Filed 9-17-20; 8:45 am]

BILLING CODE 7555-01-P